NATIONAL SCIENCE FOUNDATION

Sunshine Act Meetings; National Science Board

The National Science Board (NSB), pursuant to NSF regulations (45 CFR part 614), the National Science Foundation Act, as amended, (42 U.S.C. 1862n-5), and the Government in the Sunshine Act (5 U.S.C. 552b), hereby gives notice of the scheduling of meetings for the transaction of NSB business as follows:

TIME AND DATE: Tuesday, November 19, 2019 from 9 a.m. to 4:45 p.m., and Wednesday, November 20, 2019 from 9 a.m. to 1:30 p.m. EST.

PLACE: These meetings will be held at the NSF headquarters, 2415 Eisenhower Avenue, Alexandria, VA 22314. Meetings are held in the boardroom on the 2nd floor. The public may observe public meetings held in the boardroom. All visitors must contact the Board Office (call 703-292-7000 or send an email to nationalsciencebrd@nsf.gov) at least 24 hours prior to the meeting and provide your name and organizational affiliation. Visitors must report to the NSF visitor's desk in the building lobby to receive a visitor's badge.

STATUS: Some of these meetings will be open to the public. Others will be closed to the public. See full description below.

MATTERS TO BE CONSIDERED:

Wednesday, July 17, 2019

Plenary Board meeting

Open session: 9-11:30 a.m.

• NSB Chair's Welcome

• Update on the National Science and Technology Council (NSTC) Joint Committee on Research Environments (JCORE)

• NSF Director's Remarks

• Chile Site Visit Report

• NSB Chair's and Summary of Activities

• Directorate for Education and Human Resources Portfolio Overview

• Research Collaboration in an Era of Strategic Competition

Committee on Awards and Facilities (A&F)

Closed session: 1-2:15 p.m.

• Committee Chair's Opening Remarks

• Approval of Prior Closed Minutes

• Context Item: High Luminosity Upgrades to the ATLAS and CMS Detectors

• Information Item: Large Synoptic Survey Telescope (LSST) Construction and Operations

• Written Item: Chief Officer for Research Facilities Report

Committee on Awards and Facilities (A&F)

Open session: 2:30-3:30 p.m.

• Committee Chair's Opening Remarks

• Approval of Prior Minutes

• Calendar Year (CY) 2019-20 Schedule of Planned Action and Context Items

• Information Item: NSF Award Instruments for Major Facilities

• Information Item: Mid-scale Research Infrastructure I and II Update

• Information Item: Regional-Class Research Vessel Construction Update

Committee on Oversight (CO)

Open session: 3:30-4:45 p.m.

• Committee Chair's Opening Remarks

• Approval of Committee Meeting Minutes

• Merit Review Digest and Update on Modernization

• OIG Semiannual Report and Management Response

• Inspector General's Update

• Chief Financial Officer's Update

Wednesday, November 20, 2019

Task Force on Vision 2030 (Vision TF)

Open session: 9-9:30 a.m.

• Task Force Chair's Opening Remarks

• Approval of Prior Minutes

• Update on Vision Project

Committee on External Engagement

Open session: 9:30-10 a.m.

• Committee Chair's Remarks

• Approval of Prior Minutes

• Report on ASU Member of Congress Event

• Skilled Technical Workforce Report Rollout

• Senate Hearing on Research and Innovation

Committee on Strategy (CS)

Open session: 10-10:15 a.m.

• Committee Chair's Opening Remarks

• Approval of Prior Minutes

• Update on Budgets

Committee on Strategy (CS)

Closed Session: 10:15-10:30 a.m.

• Committee Chair's Remarks

• Approval of Prior Closed Minutes

• Update on Budgets

Plenary Board

Closed session: 10:30-10:45 a.m.

• NSB Chair's Opening Remarks

• Approval of Prior Minutes

• Closed Committee Reports

Plenary Board (Executive)

Closed session: 10:45-11:15 a.m.

• NSB Chair's Opening Remarks

• Approval of Prior Executive Closed Minutes

• Report by Subcommittee on Honorary Awards

Committee on National Science and Engineering Policy (SEP)

Open session: 12:15-1 p.m.

• Committee Chair's Opening Remarks

• Approval of Prior Minutes

• Update on Indicators 2020 Thematic Reports and “The State of Science & Engineering in the U.S.” (summary)

• Indicators 2020 Rollout Plan

• Discussion of Possible Board Policy Messages from Indicators 2020

Plenary Board

Open Session: 1-1:30 p.m.

• NSB Chair's Opening Remarks

• Approval of Prior Minutes

• Open Committee Reports

• Vote on Merit Review Digest

• Votes on OIG Semiannual Report and NSF Management Response

• NSB Chair's Closing Remarks

Meeting Adjourns: 1:30 p.m.

MEETINGS THAT ARE OPEN TO THE PUBLIC:

Tuesday, November 19, 2019

9-11:30 a.m. Plenary NSB

2:30-3:30 p.m. A&F

3:30-4:45 p.m. CO

Wednesday, November 20, 2019

9-9:30 a.m. Vision TF

9:30-10 a.m. EE

10-10:15 a.m. CS

12:15-1 p.m. SEP

1-1:30 p.m. Plenary

MEETINGS THAT ARE CLOSED TO THE PUBLIC:

Tuesday, November 19, 2019

1-2:15 p.m. A&F

Wednesday, November 20, 2019

10:15-10:30 a.m. CS

10:30-10:45 a.m. Plenary

10:45-11:15 a.m. Plenary Executive

CONTACT PERSONS FOR MORE INFORMATION: The NSB Office contact is Brad Gutierrez, bgutierr@nsf.gov, 703-292-7000. The NSB Public Affairs contact is Nadine Lymn, nlymn@nsf.gov, 703-292-2490.

SUPPLEMENTARY INFORMATION: Public meetings and public portions of meetings held in the 2nd floor boardroom will be webcast. To view these meetings, go to: http://www.tvworldwide.com/events/nsf/191119/ and follow the instructions. The public may observe public meetings held in the boardroom. The address is 2415 Eisenhower Avenue, Alexandria, VA 22314.

Please refer to the NSB website for additional information. You will find any updated meeting information and schedule updates (time, place, subject matter, or status of meeting) at https://www.nsf.gov/nsb/meetings/notices.jsp#sunshine.

The NSB provides some flexibility around meeting times. After the first meeting of each day, actual meeting start and end times will be allowed to vary by no more than 15 minutes in either direction. As an example, if a 10 meeting finishes at 10:45, the meeting scheduled to begin at 11 may begin at 10:45 instead. Similarly, the 10 meeting may be allowed to run over by as much as 15 minutes if the Chair decides the extra time is warranted. The next meeting would start no later than 11:15. Arrive at the NSB boardroom or check the webcast 15 minutes before the scheduled start time of the meeting you wish to observe.

Chris Blair,
Executive Assistant to the National Science Board Office.

[FR Doc. 2019-25012 Filed 11-14-19; 11:15 am]

BILLING CODE 7555-01-P